DEPARTMENT OF COMMERCE

International Trade Administration

[A-552-802]

Certain Frozen Warmwater Shrimp From the Socialist Republic of Vietnam: Final Results of the First Antidumping Duty Administrative Review and First New Shipper Review

AGENCY: Import Administration, International Trade Administration, Department of Commerce.

SUMMARY: On March 9, 2007, the Department of Commerce (“the Department”) published in the Federal Register the preliminary results of the first administrative and new shipper reviews of the antidumping duty order on certain frozen warmwater shrimp from the Socialist Republic of Vietnam (“Vietnam”). See Certain Frozen Warmwater Shrimp From the Socialist Republic of Vietnam: Preliminary Results of the First Administrative Review and New Shipper Review, 72 FR 10689 (March 9, 2007) (“Preliminary Results”). We gave interested parties an opportunity to comment on the Preliminary Results. Based upon our analysis of the comments and information received, we made changes to the margin calculations for the final results. We find that certain manufacturers/exporters sold subject merchandise at less than normal value during the period of review (“POR”) July 16, 2004, through January 31, 2006.

EFFECTIVE DATE: September 12, 2007.

FOR FURTHER INFORMATION CONTACT: Nicole Bankhead or Matthew Renkey, AD/CVD Operations, Office 9, Import Administration, International Trade Administration, U.S. Department of Commerce, 14th Street and Constitution Avenue, NW., Washington, DC 20230; telephone: (202) 482-9068 and (202) 482-2312, respectively.

SUPPLEMENTARY INFORMATION:

Background

On May 15, 2007, we extended the time limit for the completion of the final results of these reviews, including our analysis of issues raised in case or rebuttal briefs, until September 5, 2007. See Certain Frozen Warmwater Shrimp from Brazil, Ecuador, India, the People's Republic of China, the Socialist Republic of Vietnam, and Thailand; Notice of Extension of Time Limit for Final Results of Administrative and New Shipper Reviews, 72 FR 27286 (May 15, 2007).

We invited parties to comment on the Preliminary Results. On March 29, 2007, Grobest & I-Mei Industrial (Vietnam) Co., Ltd. (“Grobest”) and Petitioners ¹ filed surrogate values. Grobest, Vietnam Fish One Co., Ltd. (“Fish One”), and Petitioners ² filed case briefs on April 16, 2007, and rebuttal briefs on May 1, 2007.

¹ Ad Hoc Shrimp Trade Action Committee.

² Petitioners re-filed their case brief on April 27, 2007, based on a letter issued by the Department requiring that they correct their bracketing. See Letter from Alex Villanueva to Brad Ward, Re: Certain Frozen Warmwater Shrimp from the Socialist Republic of Vietnam: Refiling of Case Brief, dated April 23, 2007. The Department placed Petitioners'case brief on the record of the new shipper review, as they originally only filed it on the record of the administrative review.

Analysis of Comments Received

All issues raised in the case and rebuttal briefs by parties to these reviews are addressed in the Antidumping Duty Order on Certain Frozen Warmwater Shrimp from the Socialist Republic of Vietnam: Issues and Decision Memorandum for the First Administrative Review and New Shipper Reviews, dated September 5, 2007, which is hereby adopted by this notice (“Issues and Decision Memo”). A list of the issues which parties raised and to which we respond in the Issues and Decision Memo is attached to this notice as an Appendix. The Issues and Decision Memo is a public document and is on file in the Central Records Unit CRU, Main Commerce Building, Room B-099, and is accessible on the Web at http://www.trade.gov/ia. The paper copy and electronic version of the memorandum are identical in content.

Changes Since the Preliminary Results

Based on our analysis of information on the record of these reviews, and comments received from the interested parties, we have made changes to the margin calculations for certain respondents.

We have revalued several of the surrogate values used in the Preliminary Results. The values that were modified for these final results are those for leaflets and surrogate financial ratios. For further details see Issues and Decision Memo at Comments 10 and 11 and Antidumping Duty Administrative and New Shipper Reviews of Certain Frozen Warmwater Shrimp from the Socialist Republic of Vietnam: Surrogate Values for the Final Results, dated September 5, 2007. In addition, we have made some company-specific changes since the Preliminary Results. Specifically, we have incorporated, where applicable, post-preliminary clarifications, and performed clerical error corrections for both Grobest and Fish One. For further details on these company-specific changes, see Issues and Decision Memo at Comments 9 through 11.³

³ The specific calculation changes for Fish One can be found in Memorandum First Administrative Review of Certain Frozen Warmwater Shrimp from the Socialist Republic of Vietnam: Analysis for the Final Results of Vietnam Fish One Co., Ltd., dated September 5, 2007. The specific calculation changes for Grobest can be found in Memorandum First New Shipper Review of Certain Frozen Warmwater Shrimp from the Socialist Republic of Vietnam: Analysis for the Final Results of Grobest & I-Mei Industrial (Vietnam) Co., Ltd., dated September 5, 2007.

Scope of the Order

The scope of this order includes certain frozen warmwater shrimp and prawns, whether wild-caught (ocean harvested) or farm-raised (produced by aquaculture), head-on or head-off, shell-on or peeled, tail-on or tail-off,⁴ deveined or not deveined, cooked or raw, or otherwise processed in frozen form.

⁴ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Separate Rates

In our Preliminary Results, we determined that Fish One ⁵ and Grobest,⁶ in addition to Nha Trang Fisco, Bac Lieu Fisheries, Cam Ranh Seafoods, and Incomfish,⁷ met the criteria for the application of a separate rate. We have not received any information or comments since the issuance of the Preliminary Results that provides a basis for reconsideration of these determinations. Therefore, the Department continues to find each of these entities meet the criteria for a separate rate.

⁵ The one mandatory participating respondent of this administrative review.

⁶ The new shipper company under review.

⁷ The non-selected respondents of this administrative review seeking a separate rate.

Fish One

In the Preliminary Results we found that Fish One failed to act to the best of its ability to comply with the Department's requests for information regarding certain factors of production. We therefore applied partial adverse facts available, pursuant to section 776(a) and (b) of the Tariff Act of 1930, as amended (“the Act”), to Fish One for salt2 and marinade for the reasons set out in the Preliminary Results. See Preliminary Results, 72 FR at 10692. Fish One filed comments regarding the application of partial adverse facts available; however, we continue to find that partial adverse facts available is appropriate. See Issues and Decision Memorandum at Comment 8.

Final Results of the Reviews

The Department has determined that the following final dumping margins exist for the period July 16, 2004, through January 31, 2006:

⁸ See Preliminary Results at 10695 for a discussion of how the Department determined the separate rate margin for cooperative companies.

⁹ The Vietnam-Wide entity includes Aquatic Products Trading Company, Seaprodex Hanoi, Kisimex, Nha Trang Company Limited, Nha Trang Fisheries Co. Ltd., Seaprodex, Sea Products Imports & Exports, Song Huong ASC Import-Export Company Ltd., Song Huong ASC Joint Stock Company, Viet Nhan Company, and V N Seafoods.

Certain Frozen Warmwater Shrimp From Vietnam
Manufacturer/exporter | Weighted- average margin (percent)
Produced and Exported by Grobest | 0.00
Fish One | 0.00
Nha Trang Fisco | ⁸ 4.57
Bac Lieu Fisheries | 4.57
Cam Ranh Seafoods | 4.57
Incomfish | 4.57
Vietnam-Wide Rate ⁹ | 25.76

The Department will disclose calculations performed for these final results to the parties within five days of the date of publication of this notice in accordance with 19 CFR 351.224(b).

Assessment Rates

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of these final results of this administrative review for all shipments of the subject merchandise entered, or withdrawn from warehouse, for consumption on or after the publication date, as provided for by section 751(a)(2)(C) of the Act: (1) For subject merchandise produced and exported by Grobest, the cash-deposit rate will be that established in these final results of new shipper reviews; (2) for subject merchandise exported by Grobest but not manufactured by Grobest, the cash deposit rate will continue to be the Vietnamese-wide rate (i.e., 25.76 percent); (3) for the other exporters listed above, the cash deposit rate will be established in these final results of review (except, if the rate is zero or de minimis, i.e., less than 0.5 percent, no cash deposit will be required for that company); (4) for previously investigated or reviewed Vietnamese and non-Vietnamese exporters not listed above that have separate rates, the cash deposit rate will continue to be the exporter-specific rate published for the most recent period; (5) for all Vietnamese exporters of subject merchandise which have not been found to be entitled to a separate rate, the cash deposit rate will be the Vietnamese-wide rate of 25.76 percent; and (6) for all non-Vietnamese exporters of subject merchandise which have not received their own rate, the cash deposit rate will be the rate applicable to the Vietnamese exporters that supplied that non-Vietnamese exporter. These deposit requirements, when imposed, shall remain in effect until further notice.

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of final results of this administrative review and new shipper review are issued and published in accordance with sections 751(a)(2)(C) and 777(i) of the Act and 19 CFR 351.221(b)(5) and 351.214(j).

Dated: September 5, 2007.
David M. Spooner,
Assistant Secretary for Import Administration.

Appendix I

I. General Issues

Comment 1: Shrimp Surrogate Value

Comment 2: Surrogate Financial Companies

A. Multiple Financial Statements from a Single Company

B. Zero/Negative Profit

C. Subsidies

Comment 3: Zeroing

Comment 4: Exclusion of “Aberrational” Bangladeshi Import Data from Surrogate Values

Comment 5: Surrogate Value for Labor

Comment 6: By-Product Surrogate Value

Comment 7: Truck Freight Surrogate Value

II. Company-Specific Issues

Comment 8: Application of Partial Adverse Facts Available to Fish One's “Salt2” and Marinade Factors of Production

Comment 9: Leaflet Surrogate Value for Fish One

Comment 10: Fish One's STPP Calculation

Comment 11: Grobest's Shrimp Surrogate Value

[FR Doc. E7-17991 Filed 9-11-07; 8:45 am]

BILLING CODE 3510-DS-P